FEDERAL EMERGENCY MANAGEMENT AGENCY

44 CFR Part 62

RIN 3067-AD30

National Flood Insurance Program (NFIP); Assistance to Private Sector Property Insurers

AGENCY: Federal Emergency Management Agency (FEMA).

ACTION: Final rule.

SUMMARY: We (the Federal Insurance and Mitigation Administration of FEMA) are changing the effective date of the Financial Assistance/Subsidy Arrangement (“the Arrangement”) to October 1, 2002. The Arrangement defines the duties and responsibilities of insurers that sell and service flood insurance under the Write Your Own program. It also identifies the responsibilities of the Government to provide financial and technical assistance to these insurers.

EFFECTIVE DATE: October 1, 2002.

FOR FURTHER INFORMATION CONTACT: Edward L. Connor, Federal Emergency Management Agency, Federal Insurance and Mitigation Administration, (202) 646-3429, (facsimile) (202) 646-3445, or (email) edward.connor@fema.gov.

SUPPLEMENTARY INFORMATION: On August 6, 2001, we published in the Federal Register (Vol. 66, No. 151, page 40916) a final rule that adjusted the expense allowance under the Arrangement to reflect more accurately the costs of the private insurers that sell and service flood insurance under the Arrangement. That rule also revised the effective date of the Arrangement.

This final rule revises the effective date of the Arrangement to agree with the new Arrangement year that begins October 1. 2002. We are not making any other changes to the Arrangement for fiscal year 2003.

National Environmental Policy Act

The requirements of 44 CFR part 10, Environmental Consideration, categorically exclude this final rule. We have not prepared an environmental impact assessment.

Executive Order 12866, Regulatory Planning and Review

This final rule is not a significant regulatory action within the meaning of § 2(f) of E.O. 12866 of September 30, 1993, 58 FR 51735, but attempts to adhere to the regulatory principles set forth in E.O. 12866. The Office of Management and Budget has not reviewed this final rule under E.O. 12866.

Paperwork Reduction Act

This final rule does not contain a collection of information and is therefore not subject to the provisions of the Paperwork Reduction Act.

Executive Order 13132, Federalism

This final rule involves no policies that have federalism implications under E.O. 13132, Federalism.

Executive Order 12778, Civil Justice Reform

This final rule meets the applicable standards of § 2(b)(2) of E.O. 12778.

List of Subjects in 44 CFR Part 62

Flood insurance.

Accordingly, we amend 44 CFR Part 62 as follows:

PART 62—SALE OF INSURANCE AND ADJUSTMENT OF CLAIMS

1. The authority citation for part 62 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

2. In appendix A to part 62, revise the Effective Date to read as follows:

Appendix A to Part 62—Federal Emergency Management Agency, Federal Insurance Administration, Financial Assistance/Subsidy Arrangement

* * * * *

Effective Date: October 1, 2002.

* * * * *

(Catalog of Federal Domestic Assistance No. 83.100, “Flood Insurance”; No. 83.516, “Disaster Assistance”)

Dated: July 30, 2002.
Howard Leikin,
Deputy Administrator for Insurance, Federal Emergency Management Agency.

[FR Doc. 02-20152 Filed 8-8-02; 8:45 am]

BILLING CODE 6718-03-P